CONSUMER PRODUCT SAFETY COMMISSION

[Docket No. CPSC-2009-0066]

Proposed Extension of Approval of Information Collection; Comment Request: Recordkeeping Requirements Under the Safety Standard for Infant Walkers

AGENCY: Consumer Product Safety Commission.

ACTION: Notice.

SUMMARY: As required by the Paperwork Reduction Act of 1995 (44 U.S.C. chapter 35), the Consumer Product Safety Commission (CPSC or Commission) requests comments on a proposed 3-year extension of approval of information collection for the recordkeeping requirements in the safety standard for infant walkers, 16 CFR part 1216. The Office of Management and Budget (OMB) previously approved the collection of information under control number 3041-0141. OMB's most recent extension of approval will expire on July 31, 2013. The Commission will consider all comments received in response to this notice before requesting an extension of approval of this collection of information from OMB.

DATES: The Office of the Secretary must receive comments not later than June 18, 2013.

ADDRESSES: You may submit comments, identified by Docket No. CPSC-2009-0066, by any of the following methods:

Electronic Submissions

Submit electronic comments in the following way:

Federal eRulemaking Portal: http://www.regulations.gov. Follow the instructions for submitting comments.

To ensure timely processing of comments, the Commission is no longer accepting comments submitted by electronic mail (email), except through www.regulations.gov.

Written Submissions

Submit written submissions in the following way:

Mail/Hand delivery/Courier (for paper, disk, or CD-ROM submissions), preferably in five copies, to: Office of the Secretary, Consumer Product Safety Commission, Room 820, 4330 East West Highway, Bethesda, MD 20814; telephone (301) 504-7923.

Instructions: All submissions received must include the agency name and docket number for this notice. All comments received may be posted without change, including any personal identifiers, contact information, or other personal information provided, to http://www.regulations.gov. Do not submit confidential business information, trade secret information, or other sensitive or protected information electronically. Such information should be submitted in writing.

Docket: For access to the docket to read background documents or comments received, go to http://www.regulations.gov.

FOR FURTHER INFORMATION CONTACT: For further information contact: Robert H. Squibb, Consumer Product Safety Commission, 4330 East West Highway, Bethesda, MD 20814; (301) 504-7815, or by email to: rsquibb@cpsc.gov.

SUPPLEMENTARY INFORMATION:

A. Background

Section 104(B) of the Consumer Product Safety Improvement Act of 2008 (CPSIA), requires the CPSC to promulgate consumer product safety standards for durable infant or toddler products. On June 21, 2010, in compliance with the CPSIA, the Commission published in the Federal Register a safety standard for infant walkers that incorporated by reference the voluntary standard for infant walkers issued by ASTM International, ASTM F977-07, with some modifications to further reduce the risk of injury associated with infant walkers. The rule became effective on December 21, 2010.

B. Estimated Burden

Sections 8.1and 9.1 of the voluntary standard ASTM F977-07, which is now a mandatory standard, contain requirements for marking, labeling, and instructional literature that are disclosure requirements, thus falling within the definition of “collections of information.” 5 CFR 1320.3(c). Section 8.1 of ASTM F977-07 requires:

• The name and the place of business (city, state, and mailing address, including zip code) and/or telephone number of the manufacturer, importer distributor, or seller; and

• A code mark or other means that identifies the date (month and year, as a minimum) of manufacture.

Section 9.1 of ASTM F977-07 requires infant walkers to be provided with easy to read instructions regarding assembly, maintenance, cleaning, and use.

There are 16 known firms supplying infant walkers to the U.S. market. All 16 firms are assumed to already use labels on both their products and their packaging, but they might need to make some modifications to their existing labels. The estimated time required to make these modifications is about 1 hour per model. Each of these firms supplies an average of four different models of infant walkers; therefore, the estimated burden hours associated with labels is 1 hour × 16 firms × 4 models per firm = 64 annual hours.

Section 9.1 of ASTM F977-07 requires instructions to be supplied with the product. This is a practice that is usual and customary with infant walkers. These are products that generally require some installation and maintenance instructions, and any products sold without such information would not be able to successfully compete with products that provide this information. Therefore, because the CPSC is unaware of infant walkers that: (a) generally require some installation, but (b) lack any instructions to the user about such installation, there are no burden hours associated with the instruction requirement in section 9.1 because any burden associated with supplying instructions with infant walkers would be “usual and customary” and not within the definition of “burden” under OMB's regulations.

CPSC staff estimates that hourly compensation for the time required to create and update labels is $27.12 (U.S. Bureau of Labor Statistics, “Employer Costs for Employee Compensation,” December 2012, Table 9, total compensation for all sales and office workers in goods-producing private industries: http://www.bls.gov/ncs/). Therefore, the estimated annual cost associated with the proposed requirements is $1,736 ($27.12 per hour × 64 hours = $1,736).

C. Request for Comments

The Commission solicits written comments from all interested persons about the proposed collection of information. The Commission specifically solicits information relevant to the following topics:

• Whether the collection of information described above is necessary for the proper performance of the Commission's functions, including whether the information would have practical utility;

• Whether the estimated burden of the proposed collection of information is accurate;

• Whether the quality, utility, and clarity of the information to be collected could be enhanced; and

• Whether the burden imposed by the collection of information could be minimized by use of automated, electronic or other technological collection techniques, or other forms of information technology.

Dated: April 16, 2013.
Todd A. Stevenson,
Secretary, Consumer Product Safety Commission.

[FR Doc. 2013-09226 Filed 4-18-13; 8:45 am]

BILLING CODE 6355-01-P